DEPARTMENT OF THE INTERIOR

National Park Service

[NPS-WASO-NAGPRA-NPS0037531; PPWOCRADN0-PCU00RP14.R50000]

Notice of Inventory Completion: U.S. Department of Defense, Defense Health Agency, National Museum of Health and Medicine, Silver Spring, MD

AGENCY: National Park Service, Interior.

ACTION: Notice.

SUMMARY: In accordance with the Native American Graves Protection and Repatriation Act (NAGPRA), the U.S. Department of Defense, Defense Health Agency, National Museum of Health and Medicine has completed an inventory of human remains and has determined that there is a cultural affiliation between the human remains and Indian Tribes or Native Hawaiian organizations in this notice. The human remains were removed from Jackson County, AL; Christian County, KY; McLean County, KY; Ohio County, KY; Union County, KY; Hamilton County, TN; Sevier County, TN; and Kanawha County, WV.

DATES: Repatriation of the human remains in this notice may occur on or after April 5, 2024.

ADDRESSES: Mr. Brian F. Spatola, Curator of Anatomical Division, National Museum of Health and Medicine, U.S. Army Garrison Forest Glen, 2500 Linden Lane, Silver Spring, MD 20910, telephone (301) 319-3353, email brian.f.spatola.civ@health.mil.

SUPPLEMENTARY INFORMATION: This notice is published as part of the National Park Service's administrative responsibilities under NAGPRA. The determinations in this notice are the sole responsibility of the National Museum of Health and Medicine. The National Park Service is not responsible for the determinations in this notice. Additional information on the determinations in this notice, including the results of consultation, can be found in the inventory or related records held by the National Museum of Health and Medicine.

Description

Human remains representing, at minimum, two individuals were removed from Jackson County, AL. The human remains consist of a humerus removed from the Garland's Ferry site, and a femur and humerus removed from the William's Landing site by Clarence B. Moore. The human remains were donated to the Army Medical Museum (today the National Museum of Health and Medicine) by Clarence B. Moore in May 1915. No associated funerary objects are present.

Human remains representing, at minimum, one individual were removed from Christian County, KY. The human remains consist of a cranium with no known collection history. “MCR-64/Chr. Co, KY” and “KY-1964” are written on the cranium in black ink. The human remains were donated to the National Museum of Health and Medicine in 2003. No associated funerary objects are present.

Human remains representing, at minimum, two individuals were removed from McLean County, KY. The remains consist of a femur and tibia removed from the Austin Place site, and a radius removed from the Calhoun site by Clarence B. Moore. The human remains were donated to the Army Medical Museum by Clarence B. Moore in April 1916. No associated funerary objects are present.

Human remains representing, at minimum, 12 individuals were removed from Ohio County, KY. The human remains consist of multiple skeletal elements removed from the Indian Knoll site by Clarence B. Moore. The human remains were donated to the Army Medical Museum by Clarence B. Moore in 1916. No associated funerary objects are present.

Human remains representing, at minimum, one individual were removed from Union County, KY. The human remains consist of a partial cranium that was collected by Sydney S. Lyon. Initially, these human remains were donated to the Smithsonian Institution. In January 1870, they were transferred to the Army Medical Museum. No associated funerary objects are present.

Human remains representing, at minimum, four individuals were removed from Hamilton County, TN. The human remains consist of a tibia removed from Hampton Place at Moccasin Bend, and an ulna, radius, and two tibiae removed from the Citico Mound site by Clarence B. Moore. The human remains were donated to the Army Medical Museum by Clarence B. Moore in 1915. No associated funerary objects are present.

Human remains representing, at minimum, three individuals were removed from Sevier County, TN. The human remains consist of a sternum, fibula, and tibia removed from McMahan Mound by E. Palmer in 1881. Initially, these human remains were donated to the Smithsonian Institution. In July 1886, they were transferred to the Army Medical Museum. No associated funerary objects are present.

Human remains representing, at minimum, one individual were removed from Kanawha County, WV. The human remains consist of a tibia removed from Smith's Farm near Charleston by P. W. Norris. Initially, these human remains were donated to the Smithsonian Institution. In 1904, they were transferred to the Army Medical Museum. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, geographical information, and historical information.

Determinations

Pursuant to NAGPRA and its implementing regulations, and after consultation with the appropriate Indian Tribes and Native Hawaiian organizations, the National Museum of Health and Medicine has determined that:

• The human remains described in this notice represent the physical remains of 26 individuals of Native American ancestry.

• There is a relationship of shared group identity that can be reasonably traced between the human remains described in this notice and the Cherokee Nation; Eastern Band of Cherokee Indians; and the United Keetoowah Band of Cherokee Indians in Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 5, 2024. If competing requests for repatriation are received, the National Museum of Health and Medicine must determine the most appropriate requestor prior to repatriation. Requests for joint repatriation of the human remains are considered a single request and not competing requests. The National Museum of Health and Medicine is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 27, 2024.
Melanie O'Brien,
Manager, National NAGPRA Program.

[FR Doc. 2024-04664 Filed 3-5-24; 8:45 am]

BILLING CODE 4312-52-P